DEPARTMENT OF COMMERCE

National Oceanic and Atmospheric Administration

[Docket No. 030905221-3249-02]

National Weather Service Modernization and Associated Restructuring; Final Certification of No Degradation of Service for the Closure of One Weather Service Office (WSO)

AGENCY: National Weather Service (NWS), National Oceanic and Atmospheric Administration, Department of Commerce, Commerce.

ACTION: Notice.

SUMMARY: On September 26, 2003, the Under Secretary of Commerce for Oceans and Atmosphere certified that closure of the Meridian, Mississippi, Weather Service Office (WSO) will not cause a degradation in service to the affected service area. On September 26, 2003, the Under Secretary of Commerce for Oceans and Atmosphere transmitted to Congress notice of approval of the closure certification for WSO Meridian, Mississippi. Public Law 102-567 requires final certifications be published in the Federal Register. This notice satisfies that requirement.

ADDRESSES: Requests for copies of the final certification packages should be sent to John Sokich, Room 11426, 1325 East-West Highway, Silver Spring, MD 20910-3283.

FOR FURTHER INFORMATION CONTACT: John Sokich, 301-713-0258.

Dated: October 14, 2003.
John E. Jones,
Deputy Assistant Administrator for Weather Services.

[FR Doc. 03-26372 Filed 10-17-03; 8:45 am]

BILLING CODE 3510-KE-P